DEPARTMENT OF DEFENSE

Department of the Navy

Extension of Public Comment Period on the Environmental Assessment Addressing the Consolidation and Renovation at Marine Corps Forces Reserve Center Brooklyn, New York

AGENCY: Department of the Navy, Department of Defense.

ACTION: Notice.

SUMMARY: The Department of the Navy (DoN) is extending the public comment period for the Environmental Assessment (EA) assessing the potential environmental impacts from the consolidation of approximately 55 full-time active duty and 549 reserve staff and their equipment from the Armed Forces Reserve Center Farmingdale and Marine Forces Reserve Center Garden City to Marine Corps Reserve Center Brooklyn published on June 29, 2016 (81 FR 42338). The comment period scheduled to end July 15, 2016 is extended to August 15, 2016. This action will allow interested persons additional time to analyze the issues and prepare their comments. The EA can be viewed at: www.marforres.marines.mil/GeneralSpecialStaff/Facilities.aspx.

DATES: The EA public review period is extended to August 15, 2016.

FURTHER INFORMATION: Mr. Christopher Hurst, NEPA Project Manager, U.S. Marine Corps Forces Reserve, 2000 Opelousas Avenue, New Orleans, LA 70114, or by email at Christopher.A.Hurst@usmc.mil.

Dated: July 19, 2016.
N. A. Hagerty-Ford,
Commander, Office of the Judge Advocate General, U.S. Navy, Federal Register Liaison Officer.

[FR Doc. 2016-17537 Filed 7-22-16; 8:45 am]

BILLING CODE 3810-FF-P